ENVIRONMENTAL PROTECTION AGENCY

40 CFR Part 52

[MN81-7306a; FRL-7493-9]

Approval and Promulgation of Implementation Plans; Minnesota

AGENCY: Environmental Protection Agency (EPA).

ACTION: Direct final rule.

SUMMARY: The Environmental Protection Agency is approving a site-specific revision to the Minnesota Sulfur Dioxide (SO2) State Implementation Plan (SIP) for Flint Hills Resources, L.P. (formerly known as Koch Petroleum Group, L.P.). The Minnesota Pollution Control Agency (MPCA) submitted the SIP revision request on March 13, 2003. The request is approvable because it satisfies the requirements of the Clean Air Act (Act). The rationale for the approval and other information are provided in this notice.

DATES: This direct final rule will be effective August 4, 2003, unless EPA receives adverse comment by July 7, 2003. If EPA receives adverse comments, EPA will publish a timely withdrawal of the direct final rule in the Federal Register informing the public that the rule will not take effect.

ADDRESSES: Written comments may be mailed to: Carlton Nash, Chief, Regulation Development Section, Air Programs Branch (AR-18J), United States Environmental Protection Agency, 77 West Jackson Boulevard, Chicago, Illinois 60604. Copies of the documents relevant to this action are available for inspection during normal business hours at the above address. (Please telephone Christos Panos at (312) 353-8328, before visiting the Region 5 office.)

FOR FURTHER INFORMATION CONTACT: Christos Panos, Regulation Development Section, Air Programs Branch (AR-18J), Air and Radiation Division, United States Environmental Protection Agency, Region 5, 77 West Jackson Boulevard, Chicago, Illinois 60604, (312) 353-8328.

SUPPLEMENTARY INFORMATION: This supplemental information section is organized as follows:

I. General Information:

1. What action is EPA taking today?

2. Why is EPA taking this action?

3. What is the background for this action?

II. Review of State Implementation Plan Revision

1. Why did the State submit this SIP Revision?

2. What did Minnesota submit for approval into the SIP?

3. How does the SIP revision show attainment of the SO2 standards?

III. Final Rulemaking Action

IV. Statutory and Executive Order Reviews

I. General Information

1. What Action Is EPA Taking Today?

In this action, EPA is approving into the Minnesota SO2 SIP a site-specific revision for Flint Hills Resources L.P. (FHR), located in the Pine Bend Area of Rosemount, Dakota County, Minnesota. Specifically, EPA is approving and thereby incorporating Amendment No. 6 to FHR's administrative order (order) into the Minnesota SO2 SIP.

2. Why Is EPA Taking this Action?

EPA is taking this action because the state's submittal for FHR is fully approvable. The SIP revision provides for attainment and maintenance of the SO2 National Ambient Air Quality Standards (NAAQS) and satisfies the applicable SO2 requirements of the Act. A more detailed explanation of how the state's submittal meets these requirements is in EPA's March 20, 2003 Technical Support Document (TSD).

3. What Is the Background for this Action?

EPA redesignated the Pine Bend area from a primary SO2 nonattainment area to attainment of the SO2 NAAQS in a direct final notice published on May 31, 1995 (60 FR 28339).

On December 20, 2000, MPCA submitted a SIP revision consisting of Amendment No. 4 to FHR's order. EPA approved Amendment No. 4 into the SO2 SIP on June 12, 2001 (66 FR 31545). On May 2, 2001, MPCA submitted a SIP revision consisting of Amendment No. 5 to FHR's order. EPA approved Amendment No. 5 into the SO2 SIP on February 21, 2002 (67 FR 7957). Amendment No. 4 and Amendment No. 5 were required to reduce emissions of nitrogen oxides (NOX) and SO2 at FHR.

Koch Petroleum Group, L.P. changed its corporate name to Flint Hills Resources, L.P. on January 1, 2002.

II. Review of State Implementation Plan Revision

1. Why Did the State Submit this SIP Revision?

This is the third revision to the order initiated by FHR to reduce emissions of NOX and SO2 pursuant to a December 22, 2000 consent decree in United States v. Koch Petroleum Group, L.P., Civil Action No. 00-2756-PAM-SRN. The revised order contains changes needed to reduce emissions as required by the consent decree, changes supporting the production of lower-sulfur fuels, and changes affecting the refinery that have occurred since the Order was first issued.

2. What Did Minnesota Submit for Approval into the SIP?

The March 13, 2003 revision submitted by MPCA requests that EPA approve Amendment No. 6 to FHR's order into the Minnesota SO2 SIP. Amendment No. 6 will allow FHR to modify its refinery in order to meet the requirements established in the consent decree and to make other changes, such as allowing FHR to make lower sulfur gasoline (Tier 2 gasoline) and lower-sulfur diesel fuels. The revised order also reflects other changes previously made at the refinery, such as the removal or addition of equipment, the elimination of fuel oil combustion, limiting the sulfur content of diesel fuel used at the refinery, and reducing the number of locations for decoking.

3. How Does the SIP Revision Show Attainment of the SO2 Standards?

The MPCA submitted air quality modeling in support of FHR's SO2 SIP revision. The modeled attainment demonstration included all significant SO2 emission sources at FHR and included emissions from several nearby facilities. A background concentration was also added to the modeled values for comparison to the NAAQS. The modeling demonstrates attainment and maintenance of the SO2 NAAQS in the Pine Bend area. A more detailed discussion is in EPA's March 20, 2003 TSD.

III. Final Rulemaking Action

EPA is approving the site-specific SIP revision for Flint Hills Resources, L.P., located in the Pine Bend area of Rosemount, Dakota County, Minnesota. Specifically, EPA is incorporating Amendment No. 6 to FHR's Administrative Order into the Minnesota SO2 SIP. The State submitted this SIP revision on March 13, 2003 as a result of negotiations to a consent decree between EPA, MPCA and FHR, in which FHR proposed a series of modifications at the Pine Bend refinery. The revised Order contains changes needed to reduce emissions as required by the Consent Decree, changes supporting the production of lower-sulfur fuels, and changes affecting the refinery that have occurred since the Order was first issued. As described above, this project provides for attainment and maintenance of the SO2 NAAQS in the Pine Bend area and is therefore fully approvable.

The EPA is publishing this action without prior proposal because we view this as a noncontroversial amendment and anticipate no adverse comments. However, in the proposed rules section of this Federal Register publication, we are publishing a separate document that will serve as the proposal to approve the state plan if relevant adverse comments are filed. This rule will be effective August 4, 2003 without further notice unless we receive relevant adverse comments by July 7, 2003. If we receive such comments, we will withdraw this action before the effective date by publishing a subsequent document that will withdraw the final action. We will then address all public comments received in a subsequent final rule based on the proposed action. The EPA will not institute a second comment period. Any parties interested in commenting on this action should do so at this time. If we do not receive any comments, this action will be effective August 4, 2003.

Nothing in this action should be construed as permitting or allowing or establishing a precedent for any future implementation plan. Each request for revision to the SIP shall be considered separately in light of specific technical, economic, and environmental factors and in relation to relevant statutory and regulatory requirements.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. section 804(3). EPA is not required to submit a rule report regarding this action under section 801 because this is a rule of particular applicability.

Under section 307(b)(1) of the Clean Air Act, petitions for judicial review of this action must be filed in the United States Court of Appeals for the appropriate circuit by August 4, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Sulfur dioxide.

Dated: April 17, 2003.
Bharat Mathur,
Acting Regional Administrator, Region 5.

Title 40, chapter I of the Code of Federal Regulations is amended as follows:

PART 52—[AMENDED]

1. The authority citation for part 52 continues to read as follows:

Authority: 42 U.S.C. 7401 et seq.

2. Section 52.1220 is amended by removing and reserving paragraphs (c)(57) and (c)(60) and adding paragraph (c)(62) to read as follows:

§ 52.1220 Identification of plan.

* * * * *

(c) * * *

(57) [Reserved]

* * * * *

(60) [Reserved]

* * * * *

(62) On March 13, 2003, the State of Minnesota submitted a site-specific State Implementation Plan (SIP) revision for the control of emissions of sulfur dioxide (SO2) for Flint Hills Resources, L.P., located in the Pine Bend Area of Rosemount, Dakota County, Minnesota. Specifically, EPA is approving into the SO2 SIP Amendment No. 6 to the Administrative Order previously approved in paragraph (c)(35) and revised in paragraphs (c)(57) and (c)(60) of this section.

(i) Incorporation by reference.

(A) An administrative order identified as Amendment Six to Findings and Order by Stipulation, for Flint Hills Resources, L.P., dated and effective March 11, 2003, submitted March 13, 2003.

[FR Doc. 03-13570 Filed 6-4-03; 8:45 am]

BILLING CODE 6560-50-P